DEPARTMENT OF TRANSPORTATION

Surface Transportation Board

[STB Finance Docket No. 34143]

Keokuk Junction Railway Co.—Acquisition and Operation Exemption—West End of the Toledo, Peoria and Western Railway Corporation

Keokuk Junction Railway Co. (KJRY), a Class III rail carrier, has filed a notice of exemption under 49 CFR 1150.41 to acquire and operate approximately 12.1 miles of rail line owned by Toledo, Peoria and Western Railway Corporation (TP&W), plus 15.5 miles of incidental trackage rights over The Burlington Northern and Santa Fe Railway Company (BNSF) between Lomax, IL, and Fort Madison, IA.¹ The line to be acquired extends from milepost 194.5 near La Harpe, IL, to milepost 206.6 near Lomax, IL. The incidental trackage rights extend over BNSF's line between milepost 218.5 near Lomax and milepost 234.0 near Fort Madison, and tracks numbered 66, 37, 65, 125, 84, 81, 70, 38, 233, 185, 251, 181, 182, 259, 90, 91, 151, 366, 260, 261, and 344 or portions thereof in BNSF's Fort Madison Yard (formerly Atchison Topeka and Santa Fe Railway Yard), plus North and South main line tracks between milepost 234.0 and milepost 236.5. KJRY states that it has entered into an agreement to buy certain assets, rights and obligations of TP&W referenced in this proceeding. KJRY certifies that its projected annual revenues as a result of this transaction will not result in the creation of a Class I or Class II rail carrier.

¹ The County of McDonough, City of Macomb, and Joseph C. Szabo filed a petition on December 18, 2001, to stay the effectiveness of this exemption and to stay the operation of the exemptions in SF&L Railway, Inc.—Acquisition and Operation Exemption—Toledo, Peoria and Western Railway Corporation Between La Harpe and Peoria, IL, STB Finance Docket No. 33995, and Kern W. Schumacher and Morris H. Kulmer—Continuance in Control Exemption—SF&L Railway, Inc., STB Finance Docket No. 33996. The petition to stay was denied in Keokuk Junction Railway Company—Acquisition and Operation Exemption—West End of Toledo, Peoria and Western Railway Corporation, STB Finance Docket No. 34143, SF&L Railway, Inc.—Acquisition and Operation Exemption—Toledo, Peoria and Western Railway Corporation Between La Harpe And Peoria, IL, STB Finance Docket No. 33995, and Kern W. Schumacher and Morris H. Kulmer—Continuance in Control Exemption—SF&L Railway, Inc., STB Finance Docket No. 33996 (STB served Dec. 26, 2001).

The transaction was scheduled to be consummated on or after December 19, 2001, the effective date of the exemption.

If the notice contains false or misleading information, the exemption is void ab initio. Petitions to revoke the exemption under 49 U.S.C. 10502(d) may be filed at any time. The filing of a petition to revoke will not automatically stay the transaction.

An original and 10 copies of all pleadings, referring to STB Finance Docket No. 34143, must be filed with the Surface Transportation Board, Office of the Secretary, Case Control Unit, 1925 K Street, N.W., Washington, DC 20423-0001. In addition, a copy of each pleading must be served on William A. Mullins, 401 Ninth Street, N.W., Suite 1000, Washington, DC 20004.

Board decisions and notices are available on our website at WWW.STB.DOT.GOV.

Decided: January 2, 2002.
By the Board, David M. Konschnik, Director, Office of Proceedings.
Vernon A. Williams,
Secretary.

[FR Doc. 02-414 Filed 1-10-02; 8:45 am]

BILLING CODE 4915-00-P